DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Individual Fishing Quota Programs.

OMB Control Number: 0648-0551.

Form Number(s): None.

Type of Request: Regular (revision and extension of a currently approved information collection).

Number of Respondents: 1,069.

Average Hours per Response: Share Transfer Receipt form, Cost Recovery Fee Submission form, 1 minute; Share Transfer form, IFQ Close Account form, Cost Recovery Fee Submission form, Landing Transaction Correction Request form, Landing Location Submission form, Transfer Allocation form, Cost Recovery Fee payment through pay.gov, 3 minutes; Notification of Landing form, 5 minutes; Landing Transaction Report form, 6 minutes; IFQ Online Account Application form, 15 minutes; Wreckfish Quota Share Transfer form, 18 minutes.

Burden Hours: 2,156.

Needs and Uses: This request is for an extension and revision of a currently approved information collection.

The NMFS Southeast Regional Office manages three commercial IFQ and individual transferable quota (ITQ) programs in the Southeast Region under the authority of the Magnuson-Stevens Fishery Conservation and Management Act (Magnuson-Stevens Act), 16 U.S.C. 1801 et seq. The IFQ programs for red snapper, and grouper and tilefish occur in Federal waters of the Gulf of Mexico, and the ITQ program for wreckfish occurs in Federal waters of the South Atlantic.

This collection of information tracks the transfer and use of IFQ and ITQ shares, and IFQ allocation and landings necessary to operate, administer, and review management of the IFQ and ITQ programs. Regulations for the IFQ and ITQ programs are located at 50 CFR part 622.

The NMFS Southeast Regional Office also proposes to revise parts of the information collection approved under OMB Control Number 0648-0551 to account for updates to burden time and cost estimates, as well as administrative updates to online and paper forms. NMFS intends the revisions would make instructions and data collection requirements clearer and easier to understand, resulting in more accurate and efficient information available for use by fishery managers.

Affected Public: Business or other for-profit organizations; individuals or households.

Frequency: Annually, quarterly and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 11, 2018.
Sarah Brabson,
NOAA PRA Clearance Officer.

[FR Doc. 2018-00692 Filed 1-16-18; 8:45 am]

BILLING CODE 3510-22-P